DEPARTMENT OF COMMERCE

Department of Commerce “Charting Our Energy Future” Conference

AGENCY: International Trade Administration, Department of Commerce.

ACTION: Notice of meeting.

SUMMARY: The U.S. Department of Commerce will host a one-day Conference during which experts from the federal government, U.S. industry, academia, and public interest groups will explore and discuss strategies to promote the rapid uptake of clean energy technologies in the United States, as set forth in the President's Advanced Energy Initiative and to follow up on the September 27-28 Major Economies Meeting.

DATES: Deadline for applications: December 16, 2007. Date of the event: February 5, 2008.

ADDRESSES: To apply to participate in the Conference, please contact Catherine Vial, Office of Energy and Environmental Industries; Room 4053; U.S. Department of Commerce; 14th & Pennsylvania Avenue, NW., Washington, DC 20230; 202-482-2823; catherine.vial@mail.doc.gov.

FOR FURTHER INFORMATION CONTACT: Catherine Vial, Office of Energy and Environmental Industries; Room 4053; U.S. Department of Commerce; 14th & Pennsylvania Avenue, NW., Washington, DC 20230; 202-482-2823; catherine.vial@mail.doc.gov.

SUPPLEMENTARY INFORMATION: With his Advanced Energy Initiative, President Bush established a vision of an energy future in the United States where clean energy technologies ensure energy security, mitigate climate change, and provide energy for robust economic growth. In addition, with the Major Economies Meeting on Climate Change the President created a venue to work with all of the world's largest users of energy and largest producers of greenhouse gas emissions, to establish a new international approach on energy security and climate change in 2008 that will contribute to a global agreement by 2009 under the UN Framework Convention on Climate Change.

The Department of Commerce is hosting a one-day Conference to advance the President's climate change agenda and to support our business community by exploring practical steps government and industry can take to speed the commercialization and deployment of clean energy technologies in the United States.

The following issues will be explored during the Conference: (1) The potential to commercialize and deploy existing clean energy technologies in the near future; and (2) international best practices in promoting clean energy technologies. In addition, there will be focus sessions on the challenges and opportunities of technology; financing; public acceptance; commercialization; international cooperation; and regulatory issues.

The Department invites applications to participate in the Conference from industry leaders (CEO, President, or Senior Vice President level); state and local government officials; national and state legislators; recognized experts from academia and think-tanks; and senior government officials or business leaders representing international partners. A number of senior U.S. government officials will attend.

Applicants should provide information regarding their qualifications to participate in the event and make a valuable contribution. Participants will be selected according to their ability to successfully advance the goals of the Conference.

Catherine Vail,
Acting Director, Office of Energy and Environmental Industries, U.S. Department of Commerce.

[FR Doc. 07-5449 Filed 11-1-07; 8:45 am]

BILLING CODE 3510-OR-P